DEPARTMENT OF COMMERCE

International Trade Administration

[A-351-838, A-533-840, A-549-822]

Certain Frozen Warmwater Shrimp From Brazil, India, and Thailand: Notice of Initiation of Antidumping Duty Administrative Reviews

AGENCY: Import Administration, International Trade Administration, Department of Commerce.

SUMMARY: The Department of Commerce (Department) received timely requests to conduct administrative reviews of the antidumping duty orders on certain frozen warmwater shrimp (shrimp) from Brazil, India and Thailand. The anniversary month of these orders is February. In accordance with 19 CFR 351.221, we are initiating these administrative reviews.

DATES: Effective Date: April 1, 2011.

FOR FURTHER INFORMATION CONTACT: Kate Johnson at (202) 482-4929 (Brazil), Henry Almond at (202) 482-0049 (India), and Holly Phelps at (202) 482-0656 (Thailand), AD/CVD Operations, Office 2, Import Administration, International Trade Administration, U.S. Department of Commerce, 14th Street and Constitution Avenue, NW., Washington, DC 20230.

Background

During the anniversary month of February 2011, the Department received timely requests for administrative reviews of the antidumping duty orders on shrimp from Brazil, India, and Thailand from the Ad Hoc Shrimp Trade Action Committee (hereinafter, Domestic Producers), the American Shrimp Processors Association (ASPA), and certain individual companies, in accordance with 19 CFR 351.213(b). The Department is now initiating administrative reviews of these orders covering multiple companies for Brazil, India, and Thailand, as noted in the “Initiation of Reviews” section of this notice.

All deadlines for the submission of various types of information, certifications, or comments or actions by the Department discussed below refer to the number of calendar days from the applicable starting time.

Request To Defer Review

In their requests for administrative review, the following Thai companies requested that the Department defer the initiation of the review for one year, pursuant to 19 CFR 351.213(c): Marine Gold Products Co., Ltd. (Marine Gold); Pakfood Public Company Limited and its affiliated subsidiaries (collectively, “Pakfood”); ¹ and Thai Royal Frozen Food Co., Ltd. (Thai Royal). None of the parties provided any justification for its deferral request.

¹ These subsidiaries are: Asia Pacific (Thailand) Company Ltd., Chaophraya Cold Storage Co., Ltd., Okeanos Co., Ltd., Okeanos Food Co., Ltd., and Takzin Samut Co., Ltd.

The Department's regulations, as set forth in 19 CFR 351.213(c)(1)(i) and (ii), provide that the Department may defer the initiation of an antidumping duty administrative review, in whole or in part, for one year if: (1) The request for review was accompanied by a request to defer the review; and (2) neither the exporter or producer for which the deferral is requested, the importer of subject merchandise from that exporter or producer, or a domestic interested party objected to the deferral.

On March 15, 2011, the Domestic Producers and the ASPA submitted timely comments objecting to the deferral of the administrative review with respect to each of the three companies named above. The Domestic Producers also objected to the deferral of review for any other company for which they requested that the Department conduct a review. Because we received a timely objection to deferral from a domestic interested party pursuant to 19 CFR 351.213(c)(1)(ii) and (2), we have not deferred the instant review with respect to Marine Gold, Pakfood, or Thai Royal.

Notice of No Sales

If a producer or exporter named in this notice of initiation had no exports, sales, or entries during the POR, it should notify the Department in writing within 60 days of publication of this notice in the Federal Register. All submissions must be made in accordance with 19 CFR 351.303 and are subject to verification in accordance with section 782(i) of the Act. Six copies of the submission should be submitted to the Assistant Secretary for Import Administration, International Trade Administration, Room 1870, U.S. Department of Commerce, 14th Street and Constitution Avenue, NW., Washington, DC 20230. Further, in accordance with 19 CFR 351.303(f)(3)(ii), a copy of each request must be served on every party on the Department's service list.

Respondent Selection

In the event the Department limits the number of respondents for individual examination in these administrative reviews, the Department intends to select respondents based on U.S. Customs and Border Protection (CBP) data for U.S. imports during the POR. We intend to release the CBP data under Administrative Protective Order (APO) to all parties having an APO within seven days of publication of this initiation notice and to make our decision regarding respondent selection within 21 days of publication of this Federal Register notice. The Department invites comments regarding the CBP data and respondent selection within five days of placement of the CBP data on the record of the applicable review.

Request for Review of Non-Existent Company

We have not initiated an administrative review of the order on shrimp from India with respect to Vaibhav Sea Foods because in the 2004-2006 administrative review the Department determined that this company no longer exists. See Certain Frozen Warmwater Shrimp from India: Final Results and Partial Rescission of Antidumping Duty Administrative Review, 72 FR 52055, (Sept. 12, 2007) (2004-2006 Indian Shrimp Final Results).

Initiation of Reviews

In accordance with section 751(a)(1) of the Tariff Act of 1930, as amended (the Act), we are initiating administrative reviews of the antidumping duty orders on shrimp from Brazil, India and Thailand. We intend to issue the final results of these reviews by February 29, 2012.

| Period to be reviewed
Antidumping Duty Proceeding
Brazil:
Certain Frozen Warmwater Shrimp, A-351-838 | 2/1/10-1/31/11
Amazonas Industria Alimenticias SA
Comissaria Eichenberg Ltda
Eco Acuicola Sac
Leardini Pescados Ltda
New Symbol Comercio E Exportacao de Pescados Ltda
Pereira Argentina S.A
Railson Pesca e Exportacao Ltd
India:
Certain Frozen Warmwater Shrimp, A-533-840 | 2/1/10-1/31/11
Abad Fisheries
Accelerated Freeze-Drying C
Adilakshmi Enterprises
Allana Frozen Foods Pvt. Ltd
Allansons Ltd
AMI Enterprises
Amulya Sea Foods
Ananda Aqua Applications/Ananda Aqua Exports (P) Limited/Ananda Foods.¹
Anand Aqua Exports
Andaman Seafoods Pvt. Ltd.²
Angelique Intl
Anjaneya Seafoods
Apex Exports.²
Arvi Import & Export
Asvini Exports
Asvini Fisheries Private Limited
Avanti Feeds Limited
Ayshwarya Seafood Private Limited
Baby Marine Exports
Baby Marine International
Baby Marine Sarass
Bhatsons Aquatic Products
Bhavani Seafoods
Bijaya Marine Products
Blue Water Foods & Exports P. Ltd
Bluefin Enterprises
Bluepark Seafoods Private Ltd
BMR Exports
Britto Exports
C P Aquaculture (India) Ltd
Calcutta Seafoods Pvt. Ltd.²
Capithan Exporting Co
Castlerock Fisheries Ltd
Chemmeens (Regd)
Cherukattu Industries (Marine Div.)
Choice Canning Company
Choice Trading Corporation Private Limited.²
Coastal Corporation Ltd
Cochin Frozen Food Exports Pvt. Ltd
Coreline Exports
Corlim Marine Exports Pvt. Ltd
Damco India Private
Devi Fisheries Limited
Devi Marine Food Exports Private Ltd./Kader Exports Private Limited/Kader Investment and Trading Company Private Limited/Liberty Frozen Foods Pvt. Ltd./Liberty Oil Mills Ltd./Premier Marine Products/Universal Cold Storage Private Limited.2 3
Diamond Seafood Exports/Edhayam Frozen Foods Pvt. Ltd./Kadalkanny Frozen Foods/Theva & Company.2 4
Digha Seafood Exports
Esmario Export Enterprises
Exporter Coreline Exports
Falcon Marine Exports Limited/K.R. Enterprises.2 5
Five Star Marine Exports Private Limited
Forstar Frozen Foods Pvt. Ltd
Frontline Exports Pvt. Ltd
G A Randerian Ltd
Gadre Marine Exports
Galaxy Maritech Exports P. Ltd
Gayatri Seafoods
Geo Aquatic Products (P) Ltd
Geo Seafoods
Goodwill Enterprises
Grandtrust Overseas (P) Ltd
GVR Exports Pvt. Ltd
Haripriya Marine Exports Pvt. Ltd.²
Harmony Spices Pvt. Ltd
HIC ABF Special Foods Pvt. Ltd
Hindustan Lever, Ltd
Hiravata Ice & Cold Storage
Hiravati Exports Pvt. Ltd
Hiravati International P. Ltd. (located at APM—Mafco Yard, Sector—18, Vashi, Navi, Mumbai—400 705, India)
Hiravati International Pvt. Ltd. (located at Jawar Naka, Porbandar, Gujarat, 360 575, India)
IFB Agro Industries Ltd.²
Indian Aquatic Products
Indo Aquatics
Innovative Foods Limited
International Freezefish Exports
Interseas
ITC Ltd
ITC Limited, International Business
Jagadeesh Marine Exports
Jaya Satya Marine Exports
Jaya Satya Marine Exports Pvt. Ltd
Jayalakshmi Sea Foods Private Limited.²
Jinny Marine Traders
Jiya Packagings
K R M Marine Exports Ltd
Kalyanee Marine
Kanch Ghar
Kay Kay Exports
Kings Marine Products.²
Koluthara Exports Ltd
Konark Aquatics & Exports Pvt. Ltd
Landauer Ltd
Libran Cold Storages (P) Ltd
Magnum Estates Limited.²
Magnum Export
Magnum Sea Foods Limited.²
Malabar Arabian Fisheries
Malnad Exports Pvt. Ltd
Mangala Marine Exim India Pvt. Ltd
Mangala Sea Products
Meenaxi Fisheries Pvt. Ltd
MSC Marine Exporters
MSRDR Exports
MTR Foods
N.C. John & Sons (P) Ltd
Naga Hanuman Fish Packers
Naik Frozen Foods
Naik Frozen Foods Pvt., Ltd
Naik Seafoods Ltd
Navayuga Exports
Nekkanti Sea Foods Limited
NGR Aqua International
Nila Sea Foods Pvt. Ltd
Nine Up Frozen Foods
Overseas Marine Export
Paragon Sea Foods Pvt. Ltd
Penver Products (P) Ltd
Pijikay International Exports P Ltd
Pisces Seafood International
Premier Exports International
Premier Marine Foods
Premier Seafoods Exim (P) Ltd
R V R Marine Products Private Limited
Raa Systems Pvt. Ltd
Raju Exports
Ram's Assorted Cold Storage Ltd.²
Raunaq Ice & Cold Storage
Raysons Aquatics Pvt. Ltd
Razban Seafoods Ltd
RBT Exports
RDR Exports
Riviera Exports Pvt. Ltd
Rohi Marine Private Ltd
S & S Seafoods
S. A. Exports
S Chanchala Combines
Safa Enterprises
Sagar Foods
Sagar Grandhi Exports Pvt. Ltd
Sagar Samrat Seafoods
Sagarvihar Fisheries Pvt. Ltd
SAI Marine Exports Pvt. Ltd.²
SAI Sea Foods.²
Sandhya Aqua Exports
Sandhya Aqua Exports Pvt. Ltd.²
Sandhya Marines Limited
Santhi Fisheries & Exports Ltd
Satya Seafoods Private Limited
Sawant Food Products
Seagold Overseas Pvt. Ltd
Selvam Exports Private Limited
Sharat Industries Ltd
Shimpo Exports.²
Shippers Exports
Shroff Processed Food & Cold Storage P Ltd
Silver Seafood
Sita Marine Exports
Sowmya Agri Marine Exports
Sprint Exports Pvt. Ltd.²
Sri Chandrakantha Marine Exports.²
Sri Sakkthi Cold Storage
Sri Sakthi Marine Products P Ltd
Sri Satya Marine Exports
Sri Venkata Padmavathi Marine Foods Pvt. Ltd
Srikanth International
SSF Ltd
Star Agro Marine Exports Private Limited
Sun-Bio Technology Ltd
Suryamitra Exim (P) Ltd
Suvarna Rekha Exports Private Limited
Suvarna Rekha Marines P Ltd
TBR Exports Pvt Ltd
Teekay Marine P. Ltd.²
Tejaswani Enterprises
The Waterbase Ltd
Triveni Fisheries P Ltd
Uniroyal Marine Exports Ltd
Universal Cold Storage (P) Ltd
Usha Seafoods
V.S Exim Pvt Ltd
Veejay Impex
Victoria Marine & Agro Exports Ltd
Vinner Marine
Vishal Exports
Wellcome Fisheries Limited
West Coast Frozen Foods Private Limited
Thailand
Certain Frozen Warmwater Shrimp, A-549-822 | 2/1/10-1/31/11
A Foods 1991 Co., Ltd./May Ao Co., Ltd./May Ao Foods Co., Ltd.⁶
A. Wattanachai Frozen Products.⁷
A. Wattanachai Frozen Products Co., Ltd.⁷
A.S. Intermarine Foods Co., Ltd
ACU Transport Co., Ltd
Anglo-Siam Seafoods Co., Ltd
Apex Maritime (Thailand) Co., Ltd
Apitoon Enterprise Industry Co., Ltd
Applied DB
Asian Seafood Coldstorage (Sriracha)
Asian Seafoods Coldstorage Public Co., Ltd./Asian Seafoods Coldstorage (Suratthani) Co./STC Foodpak Ltd.⁷
Assoc. Commercial Systems
B.S.A. Food Products Co., Ltd
Bangkok Dehydrated Marine Product Co., Ltd
C Y Frozen Food Co., Ltd
C.P. Merchandising Co., Ltd.⁸
Calsonic Kansei (Thailand) Co., Ltd
Century Industries Co., Ltd
Chaivaree Marine Products Co., Ltd
Chaiwarut Company Limited
Charoen Pokphand Foods Public Co., Ltd
Chonburi LC
Chue Eie Mong Eak
Core Seafood Processing Co., Ltd
CP Retailing and Marketing Co., Ltd
Crystal Frozen Foods Co., Ltd. and/or Crystal Seafood
Daedong (Thailand) Co. Ltd
Daiei Taigen (Thailand) Co., Ltd
Daiho (Thailand) Co., Ltd
Dynamic Intertransport Co., Ltd
Earth Food Manufacturing Co., Ltd
F.A.I.T. Corporation Limited
Far East Cold Storage Co., Ltd
Findus (Thailand) Ltd
Fortune Frozen Foods (Thailand) Co., Ltd
Frozen Marine Products Co., Ltd
Gallant Ocean (Thailand) Co., Ltd
Gallant Seafoods Corporation
Global Maharaja Co., Ltd
Golden Sea Frozen Foods.⁷
Golden Sea Frozen Foods Co., Ltd.⁷
Good Fortune Cold Storage Co., Ltd
Good Luck Product Co., Ltd
Grobest Frozen Foods Co., Ltd
GSE Lining Technology Co., Ltd
Gulf Coast Crab Intl
H.A.M. International Co., Ltd
Haitai Seafood Co., Ltd
Handy International (Thailand) Co., Ltd
Heng Seafood Limited Partnership
Heritrade
HIC (Thailand) Co., Ltd
High Way International Co., Ltd
I.T. Foods Industries Co., Ltd
Inter-Oceanic Resources Co., Ltd
Inter-Pacific Marine Products Co., Ltd
K & U Enterprise Co., Ltd
K Fresh
K. D. Trading Co., Ltd
K.L. Cold Storage Co., Ltd
KF Foods
Kiang Huat Sea Gull Trading Frozen Food Public Co., Ltd
Kibun Trdg
Kingfisher Holdings Ltd
Kitchens of the Ocean (Thailand) Ltd.⁷
Kitchens of the Oceans (Thailand) Ltd.⁷
Klang Co., Ltd
Kongphop Frozen Foods Co., Ltd
Kosamut Frozen Foods Co., Ltd.⁷
Lee Heng Seafood Co., Ltd
Leo Transports
Li-Thai Frozen Foods Co., Ltd
Lucky Union Foods Co., Ltd
Maersk Line
Magnate & Syndicate Co., Ltd
Mahachai Food Processing Co., Ltd
Marine Gold Products Co., Ltd
Merit Asia Foodstuff Co., Ltd
Merkur Co., Ltd
Ming Chao Ind Thailand
N&N Foods Co., Ltd
Namprik Maesri Ltd. Part
Narong Seafood Co., Ltd
Nongmon SMJ Products
NR Instant Produce Co., Ltd
Ongkorn Cold Storage Co., Ltd./Thai-Ger Marine Co., Ltd
Pacific Queen Co., Ltd
Pakfood Public Company Limited/Asia Pacific (Thailand) Co., Ltd./Chaophraya Cold Storage Co., Ltd./Okeanos Co., Ltd./Okeanos Food Co., Ltd./and Takzin Samut Co., Ltd.⁹
Penta Impex Co., Ltd
Pinwood Nineteen Ninety Nine
Piti Seafoods Co., Ltd
Premier Frozen Products Co., Ltd
Preserved Food Specialty Co., Ltd
Queen Marine Food Co., Ltd
Rayong Coldstorage (1987) Co., Ltd
S&D Marine Products Co., Ltd
S&P Aquarium
S&P Syndicate Public Company Ltd
S. Chaivaree Cold Storage Co., Ltd
S. Khonkaen Food Industry Public Co., Ltd. and/or S. Khonkaen Food Ind Public
Samui Foods Company Limited
SCT Co., Ltd
Sea Bonanza Food Co., Ltd
SEA NT'L CO., LTD
Seafoods Enterprise Co., Ltd
Seafresh Fisheries/Seafresh Industry Public Co., Ltd
Search & Serve
Shianlin Bangkok Co., Ltd
Shing Fu Seaproducts Development Co
Siam Food Supply Co., Ltd
Siam Intersea Co., Ltd
Siam Marine Products Co. Ltd
Siam Ocean Frozen Foods Co. Ltd
Siam Union Frozen Foods.⁷
Siamchai International Food Co., Ltd
Smile Heart Foods Co. Ltd
SMP Foods Products Co., Ltd.⁷
SMP Food Products Co., Ltd.⁷
Southport Seafood Co., Ltd.⁸
Star Frozen Foods Co., Ltd
Starfoods Industries Co., Ltd
Suntechthai Intertrading Co., Ltd
Surapon Nichirei Foods Co., Ltd
Surapon Seafood.⁷
Surapon Seafoods Public Co., Ltd./Surapon Foods Public Co., Ltd./Surat Seafoods Co., Ltd.⁷
Suratthani Marine Products Co., Ltd
Suree Interfoods Co., Ltd
T.S.F. Seafood Co., Ltd
Tanaya International Co., Ltd
Tanaya Intl
Tep Kinsho Foods Co., Ltd
Teppitak Seafood Co., Ltd
Tey Seng Cold Storage Co., Ltd
Thai Agri Foods Public Co., Ltd
Thai Mahachai Seafood Products Co., Ltd
Thai Ocean Venture Co., Ltd
Thai Patana Frozen
Thai Prawn Culture Center Co., Ltd
Thai Royal Frozen Food Co., Ltd
Thai Spring Fish Co., Ltd
Thai Union Frozen Products Public Company Ltd./Thai Union Seafood Co., Ltd.⁸
Thai Union Manufacturing Company Limited
Thai World Imp. & Exp. Co.⁷
Thai World Imports & Exports.⁷
Thai Yoo Ltd., Part
The Siam Union Frozen Foods Co., Ltd.⁷
The Union Frozen Products Co., Ltd./Bright Sea Co., Ltd.¹¹
Trang Seafood Products Public Co., Ltd
Transamut Food Co., Ltd
Tung Lieng Trdg
United Cold Storage Co., Ltd
V Thai Food Product
Xian-Ning Seafood Co., Ltd
Yeenin Frozen Foods Co., Ltd
YHS Singapore Pte
ZAFCO TRDG
¹ In the 2007-2008 administrative review, the Department found that the following companies comprised a single entity: Ananda Aqua Exports (P) Ltd., Ananda Foods, and Ananda Aqua Applications. See Certain Frozen Warmwater Shrimp From India: Preliminary Results and Preliminary Partial Rescission of Antidumping Duty Administrative Review, 74 FR 9991, 9994 (Mar. 9, 2009) (2007-2008 Indian Shrimp Preliminary Results) unchanged in Certain Frozen Warmwater Shrimp From India: Final Results and Partial Rescission of Antidumping Duty Administrative Review, 74 FR 33409 (July 13, 2009) (2007-2008 Indian Shrimp Final Results). Absent information to the contrary, we intend to treat these companies as a single entity for purposes of this administrative review.
² The interested parties' requests for review included certain companies with similar names and/or addresses. For purposes of initiation, we have treated these companies as the same entity based on information obtained in prior administrative reviews. See the March 28, 2011, memorandum from David Crespo to the File entitled, “Placing Public Information from Prior Antidumping Duty Administrative Reviews on the Record of the 2010-2011 Antidumping Duty Administrative Review on Certain Frozen Warmwater Shrimp from India.”
³ In the 2004-2006 administrative review, the Department found that the following companies comprised a single entity: Devi Marine Food Exports Private Limited, Kader Investment and Trading Company Private Limited, Kader Exports Private Limited, Liberty Frozen Foods Private Limited, Liberty Oil Mills Limited, Premier Marine Products, and Universal Cold Storage Private Limited. See 2004-2006 Indian Shrimp Final Results, 72 FR at 52058. Absent information to the contrary, we intend to continue to treat these companies as a single entity for purposes of this administrative review.
⁴ In the 2006-2007 administrative review, the Department found that the following companies comprised a single entity: Diamond Seafoods Exports, Edhayam Frozen Foods Pvt. Ltd., Kadalkanny Frozen Foods, and Theva & Company. See Certain Frozen Warmwater Shrimp from India: Preliminary Results and Preliminary Partial Rescission of Antidumping Duty Administrative Review, 73 FR 12103, 12106 (Mar. 6, 2008), unchanged in Certain Frozen Warmwater Shrimp From India: Final Results and Partial Rescission of Antidumping Duty Administrative Review, 73 FR 40492 (July 15, 2008). Absent information to the contrary, we intend to continue to treat these companies as a single entity for purposes of this administrative review.
⁵ In the 2007-2008 administrative review, the Department found that the following companies comprised a single entity: Falcon Marine Exports Limited and K.R. Enterprises. See 2007-2008 Indian Shrimp Preliminary Results, 74 FR at 9994, unchanged in 2007-2008 Indian Shrimp Final Results, 74 FR at 33409. Absent information to the contrary, we intend to continue to treat these companies as a single entity for purposes of this administrative review.
⁶ On December 1, 2010, the Department found that A Foods 1991 Co., Limited is the successor-in-interest to May Ao Company Limited. See Notice of Final Results of Antidumping Duty Changed Circumstances Review: Certain Frozen Warmwater Shrimp from Thailand, 75 FR 74684 (Dec. 1, 2010). Because the effective date of this determination is within the period of review (POR), we have included both A Foods 1991 Co., Limited and May Ao Company Limited for purposes of initiation.
⁷ The requests for review from the interested parties included certain companies with similar names and/or addresses. We have contacted these companies for clarification regarding their correct names and/or addresses. Pending receipt of this information, we have treated these companies as separate entities for purposes of initiation.
⁸ The requests for review from the interested parties included certain companies with similar names and/or addresses. For purposes of initiation, we have treated these companies as the same entity based on information obtained prior to initiation of this administrative review.
⁹ In the 2007-2008 administrative review, the Department found that the following companies comprised a single entity: Pakfood Public Company Limited, Asia Pacific (Thailand) Co., Ltd., Chaophraya Cold Storage Co. Ltd., Okeanos Co. Ltd., Okeanos Food Co. Ltd., and Takzin Samut Co. Ltd. See Certain Frozen Warmwater Shrimp from Thailand: Final Results and Partial Rescission of Antidumping Duty Administrative Review, 74 FR 47551 (Sept. 16, 2009), and accompanying Issues and Decision memorandum at Comment 6. Absent information to the contrary, we intend to continue to treat these companies as a single entity for purposes of this administrative review.
¹⁰ In the 2006-2007 administrative review, the Department found that the following companies comprised a single entity: Thai Union Frozen Products Public Co., Ltd. and Thai Union Seafood Co., Ltd. See Certain Frozen Warmwater Shrimp from Thailand: Preliminary Results and Preliminary Partial Rescission of Antidumping Duty Administrative Review, 73 FR 12088 (Mar. 6, 2008), unchanged in Certain Frozen Warmwater Shrimp from Thailand: Final Results and Final Partial Rescission of Antidumping Duty Administrative Review, 73 FR 50933 (Aug. 29, 2008). Absent information to the contrary, we intend to continue to treat these companies as a single entity for purposes of this administrative review.
¹¹ In the less-than-fair-value investigation, the Department found that the following companies comprised a single entity: The Union Frozen Products Co., Ltd. and Bright Sea Co., Ltd. See Notice of Preliminary Determination of Sales at Less Than Fair Value, Postponement of Final Determination, and Negative Critical Circumstances Determination: Certain Frozen and Canned Warmwater Shrimp From Thailand, 69 FR 47100 (Aug. 4, 2004), unchanged in Notice of Final Determination of Sales at Less Than Fair Value and Negative Final Determination of Critical Circumstances: Certain Frozen and Canned Warmwater Shrimp From Thailand, 69 FR 76918 (Dec. 23, 2004). Absent information to the contrary, we intend to continue to treat these companies as a single entity for purposes of this administrative review.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

Any party submitting factual information in an AD/CVD proceeding must certify to the accuracy and completeness of that information. See section 782(b) of the Act. Parties are hereby reminded that revised certification requirements are in effect for company/government officials as well as their representatives in all segments of any AD/CVD proceedings initiated on or after March 14, 2011. See Certification of Factual Information to Import Administration During Antidumping and Countervailing Duty Proceedings: Interim Final Rule, 76 FR 7491 (February 10, 2011) (Interim Final Rule) amending 19 CFR 351.303(g)(1) & (2). The formats for the revised certifications are provided at the end of the Interim Final Rule. The Department intends to reject factual submissions in any proceeding segments initiated on or after March 14, 2011, if the submitting party does not comply with the revised certification requirements.

This initiation and notice are in accordance with section 751(a)(1) of the Act and 19 CFR 351.221(c)(1)(i).

Dated: March 28, 2011.
Gary Taverman,
Acting Deputy Assistant Secretary for Antidumping and Countervailing Duty Operations.

[FR Doc. 2011-7763 Filed 3-31-11; 8:45 am]

BILLING CODE 3510-DS-P